ENVIRONMENTAL PROTECTION AGENCY

40 CFR Part 52

[EPA-R09-OAR-2014-0417; FRL-9913-13-Region 9]

Revisions to the California State Implementation Plan, Imperial County Air Pollution Control District and Shasta County Air Quality Management District

AGENCY: Environmental Protection Agency (EPA).

ACTION: Direct final rule.

SUMMARY: The Environmental Protection Agency (EPA) is taking direct final action to approve a revision to the Imperial County Air Pollution Control District (ICAPCD) and the Shasta County Air Quality Management District (SHAQMD) portions of the California State Implementation Plan (SIP). We are approving local rules regarding enhanced monitoring under the Clean Air Act (CAA or the Act).

DATES: This rule is effective on October 27, 2014 without further notice, unless EPA receives adverse comments by September 29, 2014. If we receive such comments, we will publish a timely withdrawal in the Federal Register to notify the public that this direct final rule will not take effect.

ADDRESSES: Submit comments, identified by docket number [EPA-R09-OAR-2014-0417], by one of the following methods:

1. Federal eRulemaking Portal: www.regulations.gov. Follow the on-line instructions.

2. Email: steckel.andrew@epa.gov.

3. Mail or Deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Vanessa Graham, EPA Region IX, (415) 947-4120, graham.vanessa@epa.gov.

SUPPLEMENTARY INFORMATION: Throughout this document, “we,” “us,” and “our” refer to EPA.

Table of Contents

I. The State's Submittal

A. What rules did the State submit?

B. Are there other versions of these rules?

C. What is the purpose of the submitted rules?

II. EPA's Evaluation and Action

A. How is EPA evaluating the rules?

B. Do the rules meet the evaluation criteria?

C. EPA Recommendations To Further Improve the Rules.

D. Public Comment and Final Action.

III. Statutory and Executive Order Reviews

I. The State's Submittal

A. What rules did the State submit?

Table 1 lists the rules we are approving, with the dates that they were adopted by ICAPCD and SHAQMD, and submitted by the California State Air Resource Board (CARB).

Table 1—Submitted Rules
Local agency | Rule # | Rule title | Adopted | Submitted
ICAPCD | 910 | Enhanced Monitoring | 03/21/95 | 06/16/95
SHAQMD | 3:8 | Enhanced Monitoring and Compliance Certification for Major Sources as Defined by Title V | 01/03/95 | 2/24/95

On December 16, 1995, the submittal for ICAPCD Rule 910 was deemed by operation of law to meet the completeness criteria in 40 CFR Part 51, Appendix V, which must be met before formal EPA review.

On August 24, 1995, the submittal for SHAQMD Rule 3:8 was deemed by operation of law to meet the completeness criteria in 40 CFR Part 51, Appendix V, which must be met before formal EPA review.

B. Are there other versions of these rules?

There are no previous versions of Rule 910 in the ICAPCD portion of the SIP, nor Rule 3:8 in the SHAQMD portion of the SIP.

C. What is the purpose of the submitted rules?

The primary purpose of these rules is to improve the current monitoring schemes so that sources, districts, states and EPA can determine a source's compliance with underlying emission limitations or standards on a regular basis.

II. EPA's Evaluation and Action

A. How is EPA evaluating the rules?

As part of the 1990 amendments to the CAA, Congress amended Sections 113 and 114. Among the revisions are provisions which require an enhanced monitoring and compliance certification program for major stationary sources of air pollution. EPA Region IX provided recommended language necessary to be incorporated into SIPs. A summary of our evaluation finds that the credible evidence language used in Rules 910 and 3:8 is identical to the language required in the CAA for the implementation of regulations. In addition, we have evaluated whether the rules are adequately enforceable and whether they would interfere with the on-going process for ensuring that requirements for Reasonable Further Progress (RFP) and attainment of National Ambient Air Quality Standards (NAAQS) are met.

Guidance and policy documents that we use to evaluate enforceability and other CAA requirements include a letter dated May 16, 1994, from EPA Region IX, Felicia Marcus, entitled “Call for SIP Revision Concerning Enhanced Monitoring”.

B. Do the rules meet the evaluation criteria?

We believe these rules are consistent with the relevant policy and guidance regarding enforceability and SIP relaxations. Our Technical Support Document (TSD) has more information on our evaluation.

C. EPA Recommendations To Further Improve the Rules

When these rules are next revised, we recommend that section D.2.b(1) of ICAPCD Rule 910, and section c.2.d of SHAQMD Rule 3:8 be modified to include test methods as outlined in 40 CFR part 63. This is not an approvability issue because the rules do not limit credible evidence to those methods specifically listed, but it would be clearer to also specify part 63 in this list.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by September 29, 2014, we will publish a timely withdrawal in the Federal Register to notify the public that the direct final approval will not take effect and we will address the comments in a subsequent final action based on the proposal. If we do not receive timely adverse comments, the direct final approval will be effective without further notice on October 27, 2014. This will incorporate these rules into the federally enforceable SIP.

Please note that if EPA receives adverse comment on an amendment, paragraph, or section of this rule and if that provision may be severed from the remainder of the rule, EPA may adopt as final those provisions of the rule that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Carbon monoxide, Incorporation by reference, Intergovernmental relations, Lead, Nitrogen dioxide, Ozone, Particulate matter, Reporting and recordkeeping requirements, Sulfur Oxides, Volatile organic compounds.

Dated: May 23, 2014.
Jared Blumenfeld,
Regional Administrator, Region IX.

Part 52, Chapter I, Title 40 of the Code of Federal Regulations is amended as follows:

PART 52—APPROVAL AND PROMULGATION OF IMPLEMENTATION PLANS.

1. The authority citation for Part 52 continues to read as follows:

Authority: 42 U.S.C. 7401 et seq.

Subpart F—California

2. Section 52.220 is amended by adding paragraphs (c)(215) (i)(G) and (c)(222)(i)(F) to read as follows:

§ 52.220 Identification of plan.

* * * * *

(c) * * *

(215) * * *

(i) * * *

(G) Shasta County Air Quality Management District.

(1) Rule 3:8, “Enhanced Monitoring and Compliance Certification for Major Sources as Defined by Title V of the Federal Clean Air Act,” adopted on January 3, 1995.

* * * * *

(222) * * *

(i) * * *

(F) Imperial County Air Pollution Control District.

(1) Rule 910, “Enhanced Monitoring,” adopted March 21, 1995.

* * * * *

[FR Doc. 2014-20504 Filed 8-27-14; 8:45 am]

BILLING CODE 6560-50-P